DEPARTMENT OF ENERGY

Federal Energy Regulatory Commission Notice

Sunshine Act Meeting

April 5, 2000.

The following notice of meeting is published Pursuant to section 3(A) of the Government in the Sunshine Act (Pub. L. No. 94-409), 5 U.S.C 552B:

AGENCY HOLDING MEETING: Federal Energy Regulatory Commission.

DATE AND TIME: April 12, 2000, 10 a.m.

PLACE: Room 2C, 888 First Street, N.E., Washington, D.C. 20426.

STATUS: Open.

MATTERS TO BE CONSIDERED: Agenda.

*Note: Items listed on the Agenda may be deleted without further notice.

CONTACT PERSON FOR MORE INFORMATION: David P. Boergers, Secretary Telephone (202) 208-0400, For a recording listing items stricken from or added to the meeting, call (202) 208-1627.

This is a list of matters to be considered by the Commission. It does not include a listing of all papers relevant to the items on the agenda; however, all public documents may be examined in the Reference and Information Center.

Consent Agenda—Hydro 739th—Meeting April 12, 2000—Regular Meeting
[10:00 A.M.]
CAH-1. | Docket# DI97-8 | 001 | Georgia Pacific Corporation.
| Other# SDI97-9 | 001 | Georgia Pacific Corporation.
CAH-2. | Docket# UL98-1 | 002 | Great Northern Paper, Inc.
| Other# SP-2634 | 009 | Great Northern Paper, Inc.
CAH-3. | Docket# P-2640 | 018 | Fraser Papers, Inc.
| Other# SP-2395 | 011 | Fraser Papers, Inc.
| P-2421 | 011 | Fraser Papers, Inc.
| P-2473 | 010 | Flambeau Hydro, L.L.C.
CAH-4. | Omitted
Consent Agenda—Electric
CAE-1. | Docket# EC00-26 | 000 | Commonwealth Edison Company and Peco Energy Company.
CAE-2. | Docket# EC00-41 | 000 | Commonwealth Edison Company.
CAE-3. | Docket# ER00-1635 | 000 | Detroit Edison Company.
CAE-4. | Docket# ER00-1262 | 000 | Allegheny Energy Service Corporation, on behalf of Monongahela Power Company, the Potomac Edison Company and West Penn Power Company.
CAE-5. | Docket# ER00-1630 | 000 | PJM Interconnection, L.L.C.
CAE 6. | Docket# ER00-1637 | 000 | Cinergy Services, Inc.
CAE-7. | Docket# ER00-1659 | 000 | New England Power Pool.
CAE-8. | Omitted
CAE-9. | Omitted
CAE-10. | Omitted
CAE-11. | Docket# ER99-3318 | 000 | Mid-Continental Area Power Pool.
CAE-12. | Docket# ER00-1599 | 000 | New England Power Pool.
CAE-13. | Docket# ER00-1675 | 000 | Reliant Energy Desert Basin, LLC.
| Others# SER00-1676 | 000 | Fulton Cogeneration Associates, L.P.
CAE-14. | Docket# ER00-882 | 000 | Northern Maine Independent System Administrator, Inc.
CAE-15. | Docket# ER99-3163 | 000 | Utilicorp United, Inc.
| Other# EL99-78 | 000 | Utilicorp United, Inc.
| EL99-78 | 001 | Utilicorp United, Inc.
| ER99-3163 | 001 | Utilicorp United, Inc.
CAE-16. | Docket# QF88-21 | 008 | Pittsfield Generating Company, L.P.
CAE-17. | Omitted
CAE-18. | Docket# EC00-40 | 000 | Delmarva Power & Light Company, Atlantic City Electric Company, DPL REIT, Inc. and Conectiv Atlantic Generation, LLC.
CAE-19. | Docket# ER99-25 | 001 | Peco Energy Company.
CAE-20. | Docket# ER99-307 | 001 | Metropolitan Edison Company and Pennsylvania Electric Company.
CAE-21. | Docket# EL99-44 | 004 | Arizona Public Service Company v. Idaho Power Company.
CAE-22. | Docket# ER00-555 | 001 | California Independent System Operator Corporation.
CAE-23 | Omitted
CAE-24. | Omitted
CAE-25. | Docket# EL00-52 | 000 | Delmarva Power & Light Company and Atlantic City Electric Company.
CAE-26. | Docket# EL00-36 | 000 | Atlantic City Electric Company, Camden Cogen, L.P., Delmarva Power & Light Company, Edison Mission Marketing & Trading, Inc., Electric Power Supply Association, FPL Energy, Inc., New Energy, Inc., Old Dominion Electric Cooperative, Peco Energy Company, PG&E Energy Trading-Power, L.P., PG&E Energy Generating Company, Sithe Power Marketing, L.P., Strategic Energy, L.L.C., Virginia Electric and Power Company, Williams Energy Marketing and Trading Company and WPS Energy Services, Inc. v. PJM Interconnection, L.L.C.
CAE-27. | Omitted
Consent Agenda—Gas and Oil
CAG-1. | Docket# RP00-218 | 000 | Natural Gas Pipeline Company of America.
CAG-2. | Docket# PR00-2 | 000 | Lee 8 Storage Partnership.
CAG-3. | Docket# PR00-3 | 000 | Creole Gas Pipeline Corporation.
CAG-4. | Docket# RP00-163 | 002 | Kern River Gas Transmission Company.
CAG-5. | Omitted
CAG-6. | Docket# RP00-157 | 001 | Kern River Gas Transmission Company.
CAG-7. | Omitted
CAG-8. | Docket# RP00-176 | 000 | ANR Pipeline Company.
CAG-9. | Omitted
CAG-10. | Docket# RP00-17 | 000 | Cover Point LNG Limited Partnership.
CAG-11. | Docket# RP00-17 | 000 | Transcontinental Gas Pipe Line Corporation.
CAG-12. | Docket# RP00-136 | 000 | EL Paso Natural Gas Company.
CAG-13. | Docket# RP99-291 | 001 | Transcontinental Gas Pipe Line Corporation.
CAG-14. | Docket# RP00-35 | 001 | Viking Gas Transmission Company.
CAG-15. | Docket# RP00-63 | 001 | Great Lakes Gas Transmission Limited Partnership.
CAG-16. | Docket# RP00-7 | 002 | Texas Eastern Transmission Corporation.
| Others# SRP00-7 | 001 | Texas Eastern Transmission Corporation.
CAG-17. | Docket# RP97-29 | 003 | Panhandle Eastern Pipe Line Company.
CAG-18. | Docket# RP96-275 | 005 | Tennessee Gas Pipeline Company.
CAG-19. | Docket# RP97-369 | 013 | Public Service Company of Colorado, and Cheyenne Light, Fuel and Power Company.
| Other# SGP97-3 | 003 | Amoco Production Company, Anadarko Petroleum Corporation, Mobil Oil Corporation, OXY USA, Inc. and Union Pacific Resources Company.
| GP97-4 | 003 | Kansas Small Producer Group.
| GP97-5 | 003 | Mesa Operating Company.
CAG-20. | Docket# CP00-35 | 000 | Equitrans, L.P.
| Other# PR95-9 | 000 | Three River Pipeline Company.
| PR95-9 | 003 | Three River Pipeline Company.
CAG-21. | Omitted
CAG-22. | Docket# CP99-538 | 001 | B-R Pipeline Company and Portland General electric Company.
| Other# SCP99-538 | 000 | B-R Pipeline Company and Portland General Electric Company.
CAG-23. | Docket# CP99-94 | 002 | Florida Gas Transmission Company.
CAG-24. | Docket# RM98-10 | 002 | Regulation of Short-Term Natural Gas Transportation Services.
| Other# RM98-12 | 002 | Regulation of Interstate Natural Gas Transportation Services.
CAG-25. | Docket# CP98-74 | 001 | ANR Pipeline Company v. Transcontinental Gas Pipe Line Corporation.
CAG-26. | Docket# PR00-9 | 000 | PG&E Texas Pipeline, L.P.
CAG-27. | Docket# RP97-287 | 045 | El Paso Natural Gas Company.
Hydro Agenda
H-1. | Reserved
Electric Agenda
E-1. | Reserved
Oil and Gas Agenda
I. | Pipeline Rate Matters
PR-1. | Reserved
II. | Pipeline Certificate Matters
PC-1. | Reserved

David P. Boergers,
Secretary.

[FR Doc. 00-8894 Filed 4-6-00; 11:18 am]

BILLING CODE 6717-01-P